COMMISSION ON CIVIL RIGHTS

Sunshine Act Notice

AGENCY: United States Commission on Civil Rights.

ACTION: Notice of closed portions of meeting.

SUMMARY: On January 7, 2010 (75 FR 969) the U.S. Commission on Civil Rights announced a business meeting to be held on Friday, January 15, 2010 at the Commission's headquarters. On Friday, January 15, 2010 the Commission's General Counsel, David Blackwood, and Solicitor, Emma Monroig, certified that portions of the meeting were appropriate to be closed pursuant to exemptions 9 and 10 of 45 CFR 702.53. A majority of the Commissioners present voted to close portions of the meeting pursuant to this certification. The Presiding Officer, Chairman Gerald Reynolds, issued a statement setting forth the time and location of the closed meeting and the persons present in closed session. A complete verbatim transcript and/or electronic recording of the closed proceedings will be maintained by the Commission.

The decision to close portions of the meeting was too close in time to the day of the meeting for the publication of a revised notice to appear in advance of the scheduled meeting date. The details of the meeting, including the portions which were closed to the public, are:

DATE AND TIME: Friday, January 15, 2010; 9:30 a.m. EST.

PLACE: 624 9th St., NW., Room 540, Washington, DC 20425.

Meeting Agenda

This meeting was open to the public, except for discussion of the agenda item: “Update on Status of the 2010 Enforcement Report,” which was held in closed session pursuant to exemptions 9 and 10 of 45 CFR 702.53.

I. Approval of Agenda.

II. Program Planning.

• Approval of Briefing Report on the Impact of Illegal Immigration on the Wages and Employment of Black Workers.

• Approval of Briefing Report on Covert Wiretapping in the War on Terror.

• Multi-Ethnic Placement Act Briefing Report.

• Consideration of Findings & Recommendations.

• Motion to Approve MEPA Finding #9.

• Motion to Approve MEPA Recommendation #3.

• Motion to Approve MEPA Recommendation #8.

• Consideration of Timeline for MEPA Concurring/Dissenting Opinions & Rebuttals.

• Approval of Follow-up Letter regarding Louisiana Justice of the Peace.

• Discussion and possible letter involving new SEC corporate disclosure rule re: diversity.

• Update & Action on Status of Collection and Web Posting of Documents for Commission Clearinghouse Project.

• Update on Status of the 2010 Enforcement Report. [Discussion of this agenda item was held in closed session.]

• Consideration of Reporting Procedures for the Discovery Subcommittee on the 2010 Enforcement Report.

• Update on Status of Title IX Project.

III. State Advisory Committee Issues.

• Pennsylvania.

IV. Approval of December 16, 2009 Meeting Minutes.

V. Staff Director's Report.

VI. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: January 26, 2010.
David Blackwood,
General Counsel.

[FR Doc. 2010-1874 Filed 1-26-10; 4:15 pm]

BILLING CODE 6335-01-P